DEPARTMENT OF ENERGY

Federal Energy Regulatory Commission

Combined Notice of Filings

Take notice that the Commission has received the following Natural Gas Pipeline Rate and Refund Report filings:

Filings Instituting Proceedings

Docket Numbers: RP19-238-001.

Applicants: Southwest Gas Transmission Company, A Limited Partnership.

Description: Tariff Amendment: Stipulation in Lieu of Filing Form 501-G to be effective 1/1/2019.

Filed Date: 11/7/18.

Accession Number: 20181107-5125.

Comments Due: 5 p.m. ET 11/19/18.

Docket Numbers: RP19-245-000.

Applicants: Natural Gas Pipeline Company of America.

Description: § 4(d) Rate Filing: Negotiated Rate Agreement-CapacityRelease Macquarie 11072018 to be effective 11/7/2018.

Filed Date: 11/7/18.

Accession Number: 20181107-5069.

Comments Due: 5 p.m. ET 11/19/18.

Docket Numbers: RP19-246-000.

Applicants: Saltville Gas Storage Company L.L.C.

Description: § 4(d) Rate Filing: SGSC RCC In-service Filing to be effective 12/1/2018.

Filed Date: 11/7/18.

Accession Number: 20181107-5070.

Comments Due: 5 p.m. ET 11/19/18.

Docket Numbers: RP19-247-000.

Applicants: Algonquin Gas Transmission, LLC.

Description: § 4(d) Rate Filing: Negotiated Rate—Yankee release to Direct Energy 798171 to be effective 11/8/2018.

Filed Date: 11/7/18.

Accession Number: 20181107-5076.

Comments Due: 5 p.m. ET 11/19/18.

Docket Numbers: RP19-248-000.

Applicants: Gulf Crossing Pipeline Company LLC.

Description: § 4(d) Rate Filing: Amendment to Neg Rate Agmt (Newfield 18) to be effective 11/7/2018.

Filed Date: 11/7/18.

Accession Number: 20181107-5078.

Comments Due: 5 p.m. ET 11/19/18.

Docket Numbers: RP19-249-000.

Applicants: Rockies Express Pipeline LLC.

Description: § 4(d) Rate Filing: Neg Rate 2018-11-07 Encana to be effective 11/7/2018.

Filed Date: 11/7/18.

Accession Number: 20181107-5110.

Comments Due: 5 p.m. ET 11/19/18.

Docket Numbers: RP19-250-000.

Applicants: Midcontinent Express Pipeline LLC.

Description: § 4(d) Rate Filing: Aethon/1849 Energy Negotiated Rate to be effective 11/2/2018.

Filed Date: 11/7/18.

Accession Number: 20181107-5116.

Comments Due: 5 p.m. ET 11/19/18.

Docket Numbers: RP19-251-000.

Applicants: Gulf Shore Energy Partners, LP.

Description: eTariff filing per 1430: Form 501G Filing.

Filed Date: 11/7/18.

Accession Number: 20181107-5117.

Comments Due: 5 p.m. ET 11/19/18.

Docket Numbers: RP19-252-000.

Applicants: Gulf Shore Energy Partners, LP.

Description: § 4(d) Rate Filing: Limited Section 4 Rate Filing to be effective 11/7/2018.

Filed Date: 11/7/18.

Accession Number: 20181107-5118.

Comments Due: 5 p.m. ET 11/19/18.

Docket Numbers: RP19-253-000.

Applicants: Dominion Energy Questar Pipeline, LLC.

Description: eTariff filing per 1430: Form 501-G of Dominion Energy Questar Pipeline, LLC.

Filed Date: 11/8/18.

Accession Number: 20181108-5000.

Comments Due: 5 p.m. ET 11/20/18.

Docket Numbers: RP19-254-000.

Applicants: Guardian Pipeline, L.L.C.

Description: eTariff filing per 1430: Filing in Compliance with Order No. 849—Form No. 501-G.

Filed Date: 11/8/18.

Accession Number: 20181108-5001.

Comments Due: 5 p.m. ET 11/20/18.

Docket Numbers: RP19-255-000.

Applicants: Lucid Energy Delaware, LLC, EOG Resources, Inc.

Description: Joint Petition for Temporary Waiver of Capacity Release Regulations and Policies, et al. of Lucid Energy Delaware, LLC, et al. under RP19-255.

Filed Date: 11/7/18.

Accession Number: 20181107-5139.

Comments Due: 5 p.m. ET 11/14/18.

Docket Numbers: RP19-256-000.

Applicants: Fayetteville Express Pipeline LLC.

Description: eTariff filing per 1430: FERC Form No. 501-G Report.

Filed Date: 11/8/18.

Accession Number: 20181108-5002.

Comments Due: 5 p.m. ET 11/20/18.

Docket Numbers: RP19-257-000.

Applicants: Southwest Gas Storage Company.

Description: eTariff filing per 1430: FERC Form No. 501-G Report.

Filed Date: 11/8/18.

Accession Number: 20181108-5003.

Comments Due: 5 p.m. ET 11/20/18.

Docket Numbers: RP19-258-000.

Applicants: Lake Charles LNG Company, LLC.

Description: eTariff filing per 1430: FERC Form No. 501-G Report.

Filed Date: 11/8/18.

Accession Number: 20181108-5004.

Comments Due: 5 p.m. ET 11/20/18.

Docket Numbers: RP19-259-000.

Applicants: Gulf States Transmission LLC.

Description: eTariff filing per 1430: FERC Form No. 501-G Report.

Filed Date: 11/8/18.

Accession Number: 20181108-5005.

Comments Due: 5 p.m. ET 11/20/18.

Docket Numbers: RP19-260-000.

Applicants: Bison Pipeline LLC.

Description: eTariff filing per 1430: Bison Form No. 501-G Filing.

Filed Date: 11/8/18.

Accession Number: 20181108-5027.

Comments Due: 5 p.m. ET 11/20/18.

Docket Numbers: RP19-261-000.

Applicants: Blue Lake Gas Storage Company.

Description: Compliance filing Blue Lake 501-G Settlement.

Filed Date: 11/8/18.

Accession Number: 20181108-5028.

Comments Due: 5 p.m. ET 11/20/18.

Docket Numbers: RP19-262-000.

Applicants: Hardy Storage Company, LLC.

Description: Compliance filing Hardy Storage 501-G Settlement.

Filed Date: 11/8/18.

Accession Number: 20181108-5029.

Comments Due: 5 p.m. ET 11/20/18.

Docket Numbers: RP19-263-000.

Applicants: Black Hills Shoshone Pipeline, LLC.

Description: eTariff filing per 1430: BHS FERC 501-G Filing.

Filed Date: 11/8/18.

Accession Number: 20181108-5030.

Comments Due: 5 p.m. ET 11/20/18.

Docket Numbers: RP19-264-000.

Applicants: PGPipeline LLC.

Description: eTariff filing per 1430: PGPipeline LLC FERC Form 501-G Filing.

Filed Date: 11/8/18.

Accession Number: 20181108-5031.

Comments Due: 5 p.m. ET 11/20/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 8, 2018.
Nathaniel J. Davis, Sr.,
Deputy Secretary.

[FR Doc. 2018-24881 Filed 11-14-18; 8:45 am]

BILLING CODE 6717-01-P